NEIGHBORHOOD REINVESTMENT CORPORATION

Corporate Administration Committee Board of Directors Meeting; Sunshine Act

TIME & DATE: 11:00 a.m., Thursday, May 24, 2012,

PLACE: 999 North Capitol St. NE., Suite 800, Boardroom, Washington, DC 20002.

STATUS: Open.

CONTACT PERSON FOR MORE INFORMATION: Erica Hall, Assistant Corporate Secretary, (202) 220-2376; ehall@nw.org.

AGENDA:

I. Call To Order

II. Executive Session

III. Board Elections & Appointments

IV. Corporate Administration Committee Charter

V. DC Office Move Debrief

VI. Human Resources Updates

VII. Benefits Activities

VIII. Adjournment

Erica Hall,
Assistant Corporate Secretary.

[FR Doc. 2013-12540 Filed 5-22-13; 11:15 am]

BILLING CODE 7570-02-P